DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On October 25, 2012, the NAFTA Chapter 19 binational panel issued its decision in the review of the final results of the 2005/2006 antidumping administrative review made by the U.S. Department of Commerce, respecting Carbon and Certain Alloy Steel Wire Rod from Canada, NAFTA Secretariat File Number USA-CDA-2008-1904-02. The panel affirmed the U.S. Department of Commerce's Final Determination with regard to the issue of zeroing in this matter. Copies of the panel's decision are available from the U.S. Section of the NAFTA Secretariat.

FOR FURTHER INFORMATION CONTACT: Ellen M. Bohon, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision

On May 11, 2012, the binational panel affirmed the U.S. Department of Commerce's final results of the administrative review determining that the Complainant's sales were made at the same level of trade. The panel remanded to the U.S. Department of Commerce with regard to its practice of “zeroing” in the administrative review before the panel, with instructions to provide an explanation consistent with the remand orders in two previous cases. (Dongbu Steel Co. Ltd. v. United States, 635 F3d 1363 (Fed Cir. 2011); and JTEKT Corp. v. United States, 642 F3d 1378 (Fed. Cir. 2011)) On October 25, 2012, in accordance with Article 1904.8 of NAFTA, and for reasons set out in the panel's written decision and related order, the panel affirmed the Department of Commerce's Final Determination with regard to the issue of “zeroing” in this matter.

Dated: October 25, 2012.
Ellen M. Bohon,
U.S. Secretary, NAFTA Secretariat.

[FR Doc. 2012-26694 Filed 10-30-12; 8:45 am]

BILLING CODE 3510-GT-P